DEPARTMENT OF COMMERCE

Foreign-Trade Zones Board

[B-76-2021]

Application for Expansion Under Alternative Site Framework; Foreign-Trade Zone 79—Tampa, Florida

An application has been submitted to the Foreign-Trade Zones (FTZ) Board by the City of Tampa, grantee of FTZ 79, requesting authority to expand magnet Site 5 of the zone under the alternative site framework (ASF) adopted by the FTZ Board (15 CFR 400.2(c)). The application was submitted pursuant to the Foreign-Trade Zones Act, as amended (19 U.S.C. 81a-81u), and the regulations of the Board (15 CFR part 400). It was formally docketed on November 16, 2021.

The grantee proposes to expand magnet Site 5—Port Tampa Bay, to include additional terminal facilities/acreage located within the Port Tampa Bay seaport complex. Modified Site 5 will consist of 1,444 acres total and will encompass the following: Hookers Point terminal complex (769 acres), 2002 Maritime Blvd., Tampa; East Port terminal complex (61 acres), 3409 Causeway Blvd., Tampa; Pendola Point terminal complex (195 acres), 4808 Pendola Point Rd., Tampa; Port Redwing/South Bay terminal complex (344 acres), 6059 Diana Almeida Rd., Gibonston; Port Sutton terminal complex (21 acres), 3420 Port Sutton Rd., Tampa; and, Port Ybor terminal complex (54 acres), 801 South 20th Street, Tampa. The application indicates that the proposed expanded site is located within the Tampa U.S. Customs and Border Protection port of entry.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is January 24, 2022. Rebuttal comments in response to material submitted during the foregoing period may be submitted during the subsequent 15-day period to February 7, 2022.

A copy of the application will be available for public inspection in the “Online FTZ Information Section” section of the FTZ Board's website, which is accessible via www.trade.gov/ftz. Additional information regarding FTZ 79 is available via the FTZ Board's website.

For further information, contact Christopher Kemp at Christopher.Kemp@trade.gov.

Dated: November 17, 2021.
Camille R. Evans,
Acting Executive Secretary.

[FR Doc. 2021-25459 Filed 11-22-21; 8:45 am]

BILLING CODE 3510-DS-P